FEDERAL COMMUNICATIONS COMMISSION

47 CFR Part 73

[DA 01-1437; MM Docket No. 01-79; RM-10088]

Radio Broadcasting Services; Lordsburg and Deming, NM

AGENCY: Federal Communications Commission.

ACTION: Proposed rule; dismissal.

SUMMARY: This document dismisses a petition filed on behalf of Runnels Broadcasting System, LLC, licensee of Station KQTN, Lordsburg, New Mexico, proposing the reallotment of Channel 250C to Deming, New Mexico, and modification of its authorization accordingly, pursuant to the provisions of Section 1.420(i) of the Commission's Rules. Petitioner withdrew its interest in pursuing the proposal. See 66 FR 17843, April 4, 2001.

FOR FURTHER INFORMATION CONTACT: Nancy Joyner, Mass Media Bureau, (202) 418-2180.

SUPPLEMENTARY INFORMATION: This is a synopsis of the Commission's Report and Order, MM Docket No. 01-79, adopted June 6, 2001 , and released June 15, 2001. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Federal Communications Commission
John A. Karousos,
Chief, Allocations Branch, Policy and Rules Division, Mass Media Bureau.

[FR Doc. 01-15974 Filed 6-25-01; 8:45 am]

BILLING CODE 6712-01-P